Proclamation 8915 of December 10, 2012

Human Rights Day and Human Rights Week, 2012

By the President of the United States of America

A Proclamation

Sixty-four years ago, a group of nations emerging from the shadow of war joined together to light a path toward lasting peace. They adopted the Universal Declaration of Human Rights—a revolutionary document that recognized the inherent dignity and inalienable rights of all people as the “foundation of freedom, justice, and peace in the world.” As we mark the anniversary of that historic act, we celebrate the rights the Declaration recognized and recommit to strengthening them in the 21st century.

The United States was built on the promise that freedom and fairness are not endowed only to some—they are the birthright of all. Ordinary Americans have fought to fully realize that vision for more than two centuries, courageously forging a democracy that empowers each of us equally and affords every citizen due process under the law. Just as we have cultivated these rights here at home, so have we worked to promote them abroad. Societies across the globe are reaching toward a future where leaders are fairly and duly elected; where everyone can get an education and make a good living; where women and girls are free from violence, as well as free to pursue the same opportunities as men and boys; and where the voice of the people rings clear and true. As they do, the United States stands with them, ready to uphold the basic decency and human rights that underlie everything we have achieved and all our progress yet to come.

Men and women everywhere long for the freedom to determine their destiny, the dignity that comes with work, the comfort that comes with faith, and the justice that exists when governments serve their people. These dreams are common to people all around the world, and the values they represent are universal. This week, we rededicate ourselves to fortifying civil rights in America, while reaffirming that all people around the world should live free from the threat of extrajudicial killing, torture, oppression, and discrimination. And we renew our promise that the United States will be a partner to any nation, large or small, that will contribute to a world that is more peaceful and more prosperous, more just and more free.

NOW, THEREFORE, I, BARACK OBAMA, President of the United States of America, by virtue of the authority vested in me by the Constitution and the laws of the United States, do hereby proclaim December 10, 2012, as Human Rights Day and the week beginning December 10, 2012, as Human Rights Week. I call upon the people of the United States to mark these observances with appropriate ceremonies and activities.

IN WITNESS WHEREOF, I have hereunto set my hand this tenth day of December, in the year of our Lord two thousand twelve, and of the Independence of the United States of America the two hundred and thirty-seventh.

[FR Doc. 2012-30312

Filed 12-13-12; 8:45 am]

Billing code 3295-F3